ENVIRONMENTAL PROTECTION AGENCY

40 CFR Part 52

[IL214-1b; FRL-7164-5]

Approval and Promulgation of Implementation Plans; Illinois Emission Reporting

AGENCY: Environmental Protection Agency (EPA).

ACTION: Proposed rule.

SUMMARY: EPA is proposing to approve revisions to Illinois rules for emission reporting. These revisions restructure previously approved emission reporting rules and add requirements for sources in the Chicago area trading program to report emissions of hazardous air pollutants. Illinois requested these revisions on November 6, 2001.

In separate action in today's Federal Register, EPA is approving the submittals as a direct final rule without prior proposal, because the EPA views this as a noncontroversial action and anticipates no adverse comments. A detailed rationale for this action is set forth in the direct final rule.

If EPA receives no adverse written comments in response to these actions, we contemplate no further activity in relation to this proposed rule. If we receive adverse written comments, we will withdraw the direct final rule and will address all public comments in a subsequent final rule based on this proposed rule. Any parties interested in commenting on this action should do so at this time.

DATES: Written comments must be received on or before June 14, 2002.

ADDRESSES: Mail written comments to:

J. Elmer Bortzer, Chief, Regulation Development Section, Air Programs Branch (AR-18J), United States Environmental Protection Agency, 77 West Jackson Boulevard, Chicago, Illinois 60604.

A copy of the State submittal is available for inspection at: Regulation Development Section, Air Programs Branch (AR-18J), United States Environmental Protection Agency, Region 5, 77 West Jackson Boulevard, Chicago, Illinois 60604.

FOR FURTHER INFORMATION CONTACT: John Summerhays, Environmental Scientist, at (312) 886-6067.

SUPPLEMENTARY INFORMATION: For additional information see the direct final rule published in the rules section of this Federal Register.

Authority: 42 U.S.C. 7401-7671q.

Dated: March 19, 2002.
Gary Gulezian,
Acting Regional Administrator, Region 5.

[FR Doc. 02-12007 Filed 5-14-02; 8:45 am]

BILLING CODE 6560-50-P